DEPARTMENT OF TRANSPORTATION

Federal Aviation Administration

Fifth Meeting: RTCA Special Committee (233) Addressing Human Factors/Pilot Interface Issues for Avionics

AGENCY: Federal Aviation Administration (FAA), U.S. Department of Transportation (DOT).

ACTION: Notice of Fifth RTCA Special Committee 233 meeting.

SUMMARY: The FAA is issuing this notice to advise the public of the Fifth RTCA Special Committee 233 meeting.

DATES: The meeting will be held March 8-10, 2016 from 8:30 a.m.-4:30 p.m.

ADDRESSES: The meeting will be held at RTCA Inc. Conference Room, 1150 18th Street NW., Suite 910, Washington, DC, Tel: (202) 330-0680.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 233. The agenda will include the following:

Tuesday, March 8, 2016

1. Introduction, Upcoming PMC Dates and Deliverable

2. Review Summary from Last Meeting Working Group; current status of document

3. Review of TOR

4. March meeting objectives for subcommittees

5. Detailed Outline Discussion and feedback

Wednesday, March 9, 2016

1. Working Groups Break Out Sessions

2. End of the Day Working Group Status Report Outs

Thursday, March 10, 2016

1. Morning

a. Working Groups Break Out Session

b. Leadership Team Wrap-up

2. Afternoon

a. Discussion on Outline Content

b. Subcommittee Assignment Status

c. Subcommittee leader reports

d. Follow-on actions identified for each subcommittee

e. Meeting Recap, Action Items, Key Dates

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 24, 2016.
Latasha Robinson,
Management & Program Analyst, NextGen, Enterprise Support Services Division, Federal Aviation Administration.

[FR Doc. 2016-04510 Filed 2-26-16; 11:15 am]

BILLING CODE 4910-13-P